DEPARTMENT OF DEFENSE

GENERAL SERVICES ADMINISTRATION

NATIONAL AERONAUTICS AND SPACE ADMINISTRATION

48 CFR Parts 12, 25, and 52

[FAC 2021-04; FAR Case 2019-016; Docket No. FAR-2019-0016, Sequence No. 1]

RIN 9000-AN99

Federal Acquisition Regulation: Maximizing Use of American-Made Goods, Products, and Materials

Correction

In rule document 2021-00710 beginning on page 6180 in the issue of Tuesday, January 19, 2021, make the following correction:

On page 6180, in the third column, in the first line of the DATES section, “January 21, 2021” should read “January 19, 2021”.

[FR Doc. C1-2021-00710 Filed 2-4-21; 8:45 am]

BILLING CODE 1301-00-P